DEPARTMENT OF ENERGY

Federal Energy Regulatory Commission

Combined Notice of Filings #1

September 13, 2006.

Take notice that the Commission received the following electric corporate filings:

Docket Numbers: EC06-160-000.

Applicants: Duquesne Light Holdings, Inc.; Duquesne Light Company; Duquesne Power, LLC; Duquesne, Keystone LLC; Duquesne Conemaugh, LLC; Monmouth energy, Inc., DQE Holdings, LLC; DQE Merger Sub, Inc.; DUET Investment Holding; GIF2-MFIT United Pty. Limited; Industry Funds Management (Nominees) Limited, as trustee of the IFM (International Infrastructure) Wholesale Trust; CLH Holdings, GP.

Description: Duquesne Light Holdings, Inc. et al. submits an application requesting authorization for merger of Merger Sub with and into DL Holdings, which will result in the Duquesne Companies becoming wholly-owned subsidiaries of Holdings.

Filed Date: 09/06/2006.

Accession Number: 20060912-0387.

Comment Date: 5 p.m. Eastern Time on Tuesday, October 10, 2006.

Take notice that the Commission received the following electric rate filings:

Docket Numbers: ER05-1418-002.

Applicants: Reliant Energy Wholesale Generation, LLC.

Description: Reliant Energy Wholesale Generation, LLC submits its refund report pursuant to FERC's 7/20/06 order.

Filed Date: 08/30/2006.

Accession Number: 20060912-0376.

Comment Date: 5 p.m. Eastern Time on Wednesday, September 20, 2006.

Docket Numbers: ER05-1508-002.

Applicants: Interstate Power and Light Company.

Description: Midwest Independent Transmission System Operator, Inc. submits an amendment to its 6/21/06 compliance filing.

Filed Date: 09/08/2006.

Accession Number: 20060912-0167.

Comment Date: 5 p.m. Eastern Time on Friday, September 29, 2006.

Docket Numbers: ER06-451-009; ER06-1467-000.

Applicants: Southwest Power Pool, Inc.

Description: Southwest Power Pool, Inc. submits an errata to its 9/1/06 filing of proposed revisions to its OAT Tariff relating to its real-time energy imbalance service market etc.

Filed Date: 09/07/2006.

Accession Number: 20060912-0166.

Comment Date: 5 p.m. Eastern Time on Friday, September 22, 2006.

Docket Numbers: ER06-785-002.

Applicants: Midwest Independent Transmission System Operator, Inc.; Midwest ISO Transmission Owners.

Description: Midwest Independent Transmission System Operator, Inc. and Midwest ISO submit revisions to the Midwest ISO Agreement pursuant to Commission's 8/11/06 order.

Filed Date: 09/08/2006.

Accession Number: 20060912-0378.

Comment Date: 5 p.m. Eastern Time on Friday, September 29, 2006.

Docket Numbers: ER06-1476-000.

Applicants: Pacific Gas & Electric Company.

Description: Pacific Gas and Electric Company submits its Generator Special Facilities Agreement and a Generator Interconnection Agreement with The County of Sonoma.

Filed Date: 09/07/2006.

Accession Number: 20060912-0447.

Comment Date: 5 p.m. Eastern Time on Thursday, September 28, 2006.

Docket Numbers: ER06-1482-000.

Applicants: Southern California Edison Company.

Description: Southern California Edison Co submits an amended Interconnection Facilities Agreement with Oasis Power Partners, Service Agreement 25, FERC Electric Tariff, Second Revised Volume No. 6.

Filed Date: 09/11/2006.

Accession Number: 20060912-0375.

Comment Date: 5 p.m. Eastern Time on Monday, October 02, 2006.

Docket Numbers: ER06-1485-000.

Applicants: Xcel Energy Operating Companies.

Description: Xcel Energy Services Inc on behalf Southwestern Public Service Company submits First Revised Sheet 8 et al. to FERC Electric Tariff, First Revised Volume 1, effective 11/1/06.

Filed Date: 08/31/2006.

Accession Number: 20060905-0098.

Comment Date: 5 p.m. Eastern Time on Thursday, September 28, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. 06-7980 Filed 9-19-06; 8:45 am]

BILLING CODE 6717-01-P